DEPARTMENT OF COMMERCE

National Oceanic and Atmospheric Administration

Agency Information Collection Activities; Submission to the Office of Management and Budget (OMB) for Review and Approval; Comment Request; Evaluation of Public Visitors' Experience at the National Marine Sanctuaries Visitor Centers and Exhibits

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 26, 2024.

ADDRESSES: Interested persons are invited to submit written comments to Adrienne Thomas, NOAA PRA Officer, at NOAA.PRA@noaa.gov. Please reference OMB Control Number 0648-0582 in the subject line of your comments. Do not submit Confidential Business Information or otherwise sensitive or protected information.

FOR FURTHER INFORMATION CONTACT: Requests for additional information or specific questions related to collection activities should be directed to Dr. Giselle Samonte, Economist, NOAA Office of National Marine Sanctuaries, 1305 East West Highway, SSMC4, 10th Floor, Silver Spring, MD 20910; (301) 427-8606 or email address: Giselle.Samonte@noaa.gov.

SUPPLEMENTARY INFORMATION:

I. Abstract

The Office of National Marine Sanctuaries (ONMS) is requesting revision and extension of a currently approved information collection. The evaluation of visitor demographics, experiences, and opinions about visitor centers and exhibits is needed to support the conservation, education, and management goals of ONMS to strengthen and improve the stewardship, sustainable use, and protection of natural, cultural, and historical resources. Under the jurisdiction of ONMS and to satisfy legal mandates, the National Oceanic and Atmospheric Administration (NOAA) is authorized to conduct evaluations, such as this information collection, under section 314(c) of the American Innovation and Competitiveness Act to ensure education programs have measurable objectives and milestones as well as clear, documented metrics for evaluating its programs.

For example, the Mokupāpapa Discovery Center (Center) is an outreach arm of Papahānaumokuākea Marine National Monument that reaches more than 75,000 people each year in Hilo, Hawai`i. The Center was created almost two decades ago to help raise support for the creation of a national marine sanctuary in the Northwestern Hawaiian Islands. Since that time, the area has been proclaimed a marine national monument and the main messages we are trying to share with the public have changed to better reflect the new monument status, UNESCO World Heritage status, and the joint management by the three co-trustees of the monument.

ONMS recently updated its Strategic Plan and has identified a lack of information on the effectiveness of its education, outreach, and communications initiatives as they relate to sanctuary/monument visitor centers, exhibits (permanent or traveling/temporary), kiosks, and educational programming conducted by its visitor centers and partner facilities.

We therefore are conducting an optional exit survey to determine if people visiting ONMS' visitor centers and exhibits are receiving our new messages. ONMS is requesting to conduct a survey to evaluate patron acuity to determine successful concept attainment. Conducting thorough evaluations will aid in vital decisions regarding exhibit renovation, new exhibits, interpretation programs, and educational content.

II. Method of Collection

Information collection is voluntary via completion of an ONMS Visitor Center and Exhibit Survey provided at the ONMS and Partner Outreach Facilities.

III. Data

OMB Control Number: 0648-0582.

Form Number(s): None.

Type of Review: Regular (extension of current information collection).

Affected Public: Individuals or households.

Estimated Number of Respondents: 8,750.

Estimated Time per Response: Center Survey: 8 minutes; Visitor and Exhibit Survey: 12 minutes.

Estimated Total Annual Burden Hours: 1,734.

Estimated Total Annual Cost to Public: $0.

Respondent's Obligation: Voluntary.

Legal Authority: National Marine Sanctuary Act.

IV. Request for Comments

We are soliciting public comments to permit ONMS to: (a) Evaluate whether the proposed information collection is necessary for the proper functions of the Department of Commerce, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, please be aware that your entire comment—including your personal identifying information—may be made publicly available at any time. While you may ask us in your comment to withhold your personal identifying information from public review, we cannot guarantee that we will be able to do so.

Sheleen Dumas,
Department PRA Clearance Officer, Office of the Undersecretary for Economic Affairs, Commerce Department.

[FR Doc. 2024-13383 Filed 6-24-24; 8:45 am]

BILLING CODE 3510-NK-P